FEDERAL COMMUNICATIONS COMMISSION

47 CFR Part 54

[WC Docket No. 10-90, 14-259; DA 15-140; DA 15-158]

Wireline Competition Bureau Seeks Comment More Generally on Letter of Credit Proposals for Connect America Phase II Competitive Bidding Process

AGENCY: Federal Communications Commission.

ACTION: Proposed rule.

SUMMARY: In these documents, the Wireline Competition Bureau seeks comment more generally on letter of credit proposals raised by several petitions for waiver and their potential applicability to the Phase II competitive bidding process.

DATES: Comments are due on or before March 30, 2015 and reply comments are due on or before April 13, 2015.

ADDRESSES: You may submit comments, identified by WC Docket Nos. 10-90 and 14-259, by any of the following methods:

• Electronic Filers: Comments may be filed electronically using the Internet by accessing the ECFS: http://fjallfoss.fcc.gov/ecfs2/.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Heidi Lankau, Wireline Competition Bureau at (202) 418-7400 or TTY (202) 418-0484.

SUPPLEMENTARY INFORMATION: This is a synopsis of the Wireline Competition Bureau's Public Notices (Notices) in WC Docket No. 10-90, 14-259; DA 15-140, released January 30, 2015 and DA 15-158, released February 4, 2015. The complete text of these documents are available for inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via Internet at http://www.bcpiweb.com.

I. Introduction

1. On January 27, 2015, the Alliance of Rural Broadband Applicants filed a petition for limited waiver of certain letter of credit (LOC) requirements applicable to the rural broadband experiments. On February 3, 2015, NTCA—The Rural Broadband Association filed an emergency petition for limited waiver of the LOC bank eligibility requirements applicable to the rural broadband experiments. On January 21, 2015, the National Rural Utilities Cooperative Finance Corporation and its affiliate, the Rural Telephone Finance Cooperative, also filed a petition for waiver of one aspect of the Commission's LOC bank eligibility requirements.

2. The Bureau notes that these petitions for waiver raise issues that may be relevant to broader pending questions regarding possible LOC requirements for recipients of funding awarded through the Phase II competitive bidding process. Thus, during the comment period established, the Bureau encourages parties to comment on the petitions' LOC proposals more generally and their potential applicability to the Phase II competitive bidding process.

3. In order to develop a complete record on the issues presented in the waiver petition, the request for more general comment will be treated, for ex parte purposes, as “permit-but-disclose” in accordance with section 1.1200(a) of the Commission's rules, subject to the requirements under section 1.1206(b).

II. Procedural Matters

1. Initial Regulatory Flexibility Act Analysis

4. The USF/ICC Transformation Order and FNPRM included an Initial Regulatory Flexibility Analysis (IRFA) pursuant to 5 U.S.C. 603, exploring the potential impact on small entities of the Commission's proposal. We invite parties to file comments on the IRFA in light of this additional notice.

2. Initial Paperwork Reduction Act of 1995 Analysis

5. This document seeks comment on a potential new or revised information collection requirement. If the Commission adopts a new or revised information collection requirement, the Commission will publish a separate notice in the Federal Register inviting the public to comment on the requirement, as required by the Paperwork Reduction Act of 1995, Public Law 104-13 (44 U.S.C. 3501-3520). In addition, pursuant to the Small Business Paperwork Relief Act of 2002, Public Law 107-198, see 44 U.S.C. 3506(c)(4), the Commission seeks specific comment on how it might “further reduce the information collection burden for small business concerns with fewer than 25 employees.”

3. Filing Requirements

6. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties that choose to file by paper must file an original and one copy of each filing. Because more than one docket number appears in the caption of this proceeding, filers must submit two additional copies for the additional docket number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty).

7. All filings must be addressed to the Commission's Secretary, Marlene H. Dortch, Office of the Secretary, Federal Communications Commission, 445 12th Street SW., Washington, DC 20554. Parties should also send a copy of their filings to Heidi Lankau, Telecommunications Access Policy Division, Wireline Competition Bureau, 445 12th Street SW., Room 5-B511, Washington, DC 20554, or by email to Heidi.Lankau@fcc.gov.

8. Documents are available for public inspection and copying during business hours at the FCC Reference Information Center, Portals II, 445 12th Street SW., Room CY-A257, Washington, DC 20554. Furthermore, the documents may be viewed in and downloaded from ECFS.

9. For additional information on this proceeding, contact Heidi Lankau (Heidi.Lankau@fcc.gov) of the Wireline Competition Bureau, Telecommunications Access Policy Division, (202) 418-7400.

Federal Communications Commission.
Ryan B. Palmer,
Chief, Telecommunications Access Policy Division, Wireline Competition Bureau.

[FR Doc. 2015-04201 Filed 2-26-15; 8:45 am]

BILLING CODE 6712-01-P